DEPARTMENT OF DEFENSE

Defense Contract Audit Agency

Privacy Act of 1974; System of Records

AGENCY: Defense Contract Audit Agency, DoD.

ACTION: Notice to alter a system of records; RDCAA 590.8-DCAA Management Information System (DMIS)

SUMMARY: The Defense Contract Audit Agency proposes to alter a system of records notice in its existing inventory of records systems subject to the Privacy Act of 1974, (5 U.S.C. 552a), as amended.

DATES: This proposed action will be effective without further notice on September 9, 2005 unless comments are received which result in a contrary determination.

ADDRESSES: Send comments to Senior Advisor, Defense Contract Audit Agency, Information and Privacy, CM, 8725 John J. Kingman Road, Suite 2135, Fort Belvoir, VA 22060-6201.

FOR FURTHER INFORMATION CONTACT: Ms. Debbie Teer at (703) 767-1002.

SUPPLEMENTARY INFORMATION: The Defense Contract Audit Agency systems of records notices subject to the Privacy Act of 1974, (5 U.S.C. 552a), as amended, have been published in the Federal Register and are available from the address above.

The proposed system reports, as required by 5 U.S.C. 552a (r), of the Privacy Act of 1974, as amended, were submitted on August 3, 2005, to the House Committee on Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 4, 2005.
Jeannette Owings-Ballard,
OSD Federal Register Liaison Officer, Department of Defense.

RDCAA 590.8

System name:

DCAA Management Information System (DMIS) (April 29, 2004, 69 FR 23497).

Changes:

* * * * *

Category of individuals covered by the system:

Delete the following: “and contractors”.

Category of records in the system:

Delete entry and replace with “Records relating to audit work performed in terms of hours expended by individual employees, dollar amounts audited, exceptions reported, and net savings to the government as a result of those exceptions; records containing employee data; records containing reimbursable billing information; name, Social Security Number, time and attendance, and work schedule; and records containing office information, e.g., duty station address and telephone number.”

* * * * *

Purpose(s):

Delete entry and replace with “To provide managers, supervisors and team members with timely, on-line information regarding audit requirements, programs, and performance. To provide timekeepers with access to time and attendance records.”

* * * * *

Record Source Categories:

Delete entry and replace with “Individual employees, supervisors, time keepers, audit reports and working papers.”

* * * * *

RDCAA 590.8

System name:

DCAA Management Information System (DMIS)

System location:

Defense Contract Audit Agency, Information Technology Division, System Design and Development Branch, 4075 Park Avenue, Memphis, TN 38111-7492.

Categories of individuals covered by the system:

DCAA employees.

Categories of records in the system:

Records relating to audit work performed in terms of hours expended by individual employees, dollar amounts audited, exceptions reported, and net savings to the government as a result of those exceptions; records containing employee data; records containing reimbursable billing information; name, Social Security Number, time and attendance, and work schedule; and records containing office information, e.g., duty station address and telephone number.

Authority for maintenance of the system:

5 U.S.C. 301, Departmental Regulations and E.O. 9397 (SSN).

Purpose(s):

To provide managers, supervisors, and team members with timely, on-line information regarding audit requirements, programs, and performance. To provide timekeepers with access to time and attendance records.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' that appear at the beginning of DCAA's compilation of systems of records notices apply to this system.

Policies and practices for storing, retrieving, accessing, retaining, and disposing of records in the system:

Storage:

Records are maintained in an on-line database and on magnetic tape at secure offsite storage.

Retrievability:

Records are retrieved by organizational levels, name of employee, Social Security Number, office symbol, audit activity codes, or any other combination of these identifiers.

Safeguards:

Automated records are protected by restricted access procedures. Access to records is strictly limited to authorized officials with a bona fide need for the records.

Retention and disposal:

Records are retained indefinitely.

System manager(s) and address:

Chief, Information Technology Division, System Design and Development Branch, Defense Contract Audit Agency, 4075 Park Avenue, Memphis, TN 38111-7492.

Notification procedure:

Individuals seeking to determine whether information about themselves is contained in this system should address written inquiries to the Chief, Information Technology Division, System Design and Development Branch, Defense Contract Audit Agency, 4075 Park Avenue, Memphis, TN 38111-7492.

Individuals must furnish name, Social Security Number, approximate date of record, and geographic area in which consideration was requested for record to be located and identified. Official mailing addresses are published as an appendix to the DCAA's compilation of systems notices.

Record access procedures:

Individuals seeking access to information about themselves contained in this system should address written inquiries to the Chief, Information Technology Division, System Design and Development Branch, Defense Contract Audit Agency, 4075 Park Avenue, Memphis, TN 38111-7492.

Individuals must furnish name, Social Security Number, approximate date of record, and geographic area in which consideration was requested for record to be located and identified.

Contesting record procedures:

DCAA's rules for accessing records, for contesting contents and appealing initial agency determinations are published in DCAA Regulation 5410.10; 32 CFR part 317; or may be obtained from the system manager.

Record source categories:

Individual employees, supervisors, time keepers, audit reports and working papers.

Exemptions claimed for the system:

None.

[FR Doc. 05-15788 Filed 8-9-05; 8:45 am]

BILLING CODE 5001-06-P